DEPARTMENT OF DEFENSE

Office of the Secretary

[Docket ID: DoD-2012-OS-0035]

Privacy Act of 1974; System of Records

AGENCY: Defense Intelligence Agency, DoD.

ACTION: Notice to alter a system of records.

SUMMARY: The Defense Intelligence Agency is proposing to alter a system to its existing inventory of records systems subject to the Privacy Act of 1974, (5 U.S.C. 552a), as amended.

DATES: This action will be effective without further notice on June 4, 2012 unless comments are received that would result in a contrary determination.

ADDRESSES: You may submit comments, identified by docket number and title, by any of the following methods:

* Federal Rulemaking Portal: http://www.regulations.gov. Follow the instructions for submitting comments.

* Mail: Federal Docket Management System Office, 4800 Mark Center Drive, East Tower, Suite 02G09, Alexandria, VA 22350-3100.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Theresa Lowery. Defense Intelligence Agency, DAN 1-C, 600 McDill Blvd., Washington, DC 20340-0001; phone number (202) 231-1193.

SUPPLEMENTARY INFORMATION: The Defense Intelligence Agency system of records notices subject to the Privacy Act of 1974, (5 U.S.C. 552a), as amended, have been published in the Federal Register and are available from the FOR FURTHER INFORMATION CONTACT address above.

The proposed system report, as required by 5 U.S.C. 552a of the Privacy Act of 1974, as amended, was submitted on June 8, 2011 to the House Committee on Oversight and Government Reform, the Senate Committee on Homeland Security and Governmental Affairs, and the Office of Management and Budget (OMB) pursuant to paragraph 4c of Appendix I to OMB Circular No. A-130, “Federal Agency Responsibilities for Maintaining Records About Individuals, “dated February 8, 1996 (February 20, 1996, 61 FR 6427).

Dated: April 18, 2012.
Patricia Toppings,
OSD Federal Register Liaison Officer, Department of Defense.

LDIA 0660

Security Files (July 24, 2006, 71 FR 41784)

* * * * *

Changes:

System name:

Delete entry and replace with “Security and Counterintelligence Records”.

* * * * *

Categories of individuals covered by the system:

Delete entry and replace with “Current and former Defense Intelligence Agency (DIA) civilian, military and contractor personnel, nominees for employment with DIA, all persons with access to DIA facilities and infrastructure, all persons under the security cognizance of DIA. Persons about whom other U.S. government agencies have requested investigative assistance from DIA as part of lawful investigations by their agency. Individuals identified as the result of an administrative, security and/or investigative function who could pose a threat to DIA operations, data, personnel, facilities and systems”.

Categories of records in the system:

Delete entry and replace with “Personnel: Name, date and place of birth, Social Security Number (SSN), gender, race, home address, family and dependent information, biometric data, medical/psychological information, financial, employment, training records, test results and education history, statements of personal history.

Administrative: Case control number, forms, documents and correspondence relating to security files, personnel security, investigative and employment records, personnel security functions, nomination notices, indoctrination/debriefing memoranda, secrecy and nondisclosure agreements, certificates of clearance.

Adjudication memoranda and supporting documentation, in-house investigations, security violations, security threats and incidents, investigations and inquiries of criminal and counterintelligence matters, investigative referrals, counterintelligence reporting, foreign travel, foreign contacts, identification badge records, retrieval indices, clearance status records, facility and access control records.”

Authority for maintenance of the system:

Delete entry and replace with “National Security Act of 1947; E.O. 12333, United States Intelligence Activities; DoDD 5105.21, Defense Intelligence Agency; DoDI 5240.06, Counterintelligence Awareness, Briefing, and Reporting Programs; DoDI 5200.08, Security of DoD Installations and Resources; DoD 5200.2.R, Personnel Security Program; DIA Directive 3020.400, DIA Critical Infrastructure Program; Intelligence Community Directive (ICD) 704, Personnel Security Standards and Procedures Governing Eligibility for Access to Special Compartmented Information and other Controlled Access Program Information; DIA Manual 50-8, Personnel Security Program; DIA Manual 50-14, Security Investigations; DIA Regulation 50-17, Reporting Foreign Contact and Foreign Travel; DIA Instruction 5200.002, Credibility Assessment Program and E.O. 9397 (SSN), as amended.”

Purpose(s):

Delete entry and replace with “The system will manage records used to accomplish security and counterintelligence functions. Information is used to comply with regulatory requirements related to initial and continued employment, to determine eligibility for access to classified information, to protect the agency's operations, data, personnel, facilities and systems (by using administrative, security and investigative functions to detect actual or potential threats and risks)and to document training and education”.

* * * * *

Storage:

Delete entry and replace with “Paper and Electronic storage media”.

Retrievability:

Delete entry and replace with “By last name, Social Security Number (SSN), and applicable case control number”.

Safeguards:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system”.

Retention and disposal:

Delete entry and replace with “Security Files: Personnel Security Records. Case files documenting the processing of investigations on Federal employees or applicants for Federal employment, whether or not a security clearance is granted, and other persons, such as those performing work for a Federal agency under contract, who require an approval before having access to Government facilities or to sensitive data. These files include questionnaires, summaries of reports prepared by the investigating agency, and other records reflecting the processing of the investigation and the status of the clearance, exclusive of copies of investigative reports furnished by the investigating agency. Temporary-Destroy upon notification of death or 5 years after separation or transfer of employee or no later than 5 years after contract relationship expires.

Security Files: Polygraph examinations, favorable examinations; Temporary-Destroy 90 days.

Unfavorable Examinations; examinations considered as part of an investigation action necessary for security adjudicative purposes and includes the Medical/Psychiatric Condition Statement-Temporary-Destroy when 15 years old.

Medical and Psychiatric Condition Statement (Favorable), Temporary-Destroy when 1 year old; (Unfavorable), Temporary-Destroy when 15 years old.

Examinations considered records of major significance, congressional interest, national security or upon which significant action was taken (trial, courts-martial, employment termination). PERMANENT—Offer to National Archives and Records Administration (NARA) when 25-30 years old. Final disposition determinations of individual cases are made by NARA.

Security Violations: Temporary—Destroy 5 years after close of case. Files referred for prosecution determination; Temporary—Destroy 3 years after close of case.

Orientation and Training: Temporary—Destroy when no longer required for current operations (documents reflecting training, security orientation, and compliance with security regulations).

Non-Disclosure Agreements: Temporary—Destroy when 70 years old.

Logs and Registers: Temporary—Destroy 2 years after final entry.”

System manager(s) and address:

Delete entry and replace with “Counterintelligence and Security Office, Defense Intelligence Agency, 200 MacDill Blvd., Washington, DC 20340-5100”.

Notification procedure:

Delete entry and replace with “Individuals seeking to determine whether information about themselves is contained in this system of records should address written inquiries to the DIA Freedom of Information Office (DAN-1A), Defense Intelligence Agency, 200 MacDill Blvd., Washington, DC 20340-5100.

Request should contain the individual's full name, current address, and telephone number”.

Record access procedures:

Delete entry and replace with “Individuals seeking access to information about themselves, contained in this system of records, should address written inquiries to the DIA Freedom of Information Office (DAN-1A), 200 MacDill Blvd., Washington, DC 20340-5100.

Request should contain the individual's full name, current address, and telephone number”.

Contesting record procedures:

Delete entry and replace with “DIA's rules for accessing records, for contesting contents and appealing initial agency determinations are published in DIA Instruction 5400.001 “Defense Intelligence Agency Privacy Program”; or may be obtained from the system manager”.

Record source categories:

Delete entry and replace with “Subject individuals, agency and other government officials as well as open source information”.

Exemptions claimed for the system:

Delete entry and replace with “Investigatory material compiled for law enforcement purposes, other than material within the scope of subsection 5 U.S.C. 552a(j)(2), may be exempt pursuant to 5 U.S.C. 552(k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

(k)(5) Investigatory material complied solely for the purpose of determining suitability, eligibility, or qualifications for Federal civilian employment, military service, Federal contracts, or access to classified information but only to the extent such material would reveal the identity of a confidential source.

(k)(6) Testing or examination material used to determine individual qualifications for appointment or promotion in the Federal or military service, if the disclosure of such material would compromise the objectivity or fairness of the test or examination process.

An exemption rule for this system has been promulgated in accordance with the requirements of 5 U.S.C. 553 (b)(1), (2), and (3), (c), and (e) and published in 32 CFR part 319”.

* * * * *

[FR Doc. 2012-10657 Filed 5-2-12; 8:45 am]

BILLING CODE 5001-06-P